DEPARTMENT OF HEALTH AND HUMAN SERVICES

Office of the Secretary

Extension of Comment Period for the Notice and Request for Comments on the Implications of Access and Benefit Sharing (ABS) Commitments/Regimes and Other Proposed Commitments Being Considered Under a WHO Convention, Agreement or Other International Instrument on Pandemic Prevention, Preparedness and Response

AGENCY: Office for Global Affairs, Office of the Secretary, HHS.

ACTION: Notice; extension of comment period.

SUMMARY: This document extends the comment period for the Notice and Request for Comments on the Implications of Access and Benefit Sharing (ABS) Commitments/Regimes and Other Proposed Commitments Being Considered Under a WHO Convention, Agreement or Other International Instrument on Pandemic Prevention, Preparedness and Response that appeared in the December 22, 2023, issue of the Federal Register. The comment period for the notice, which is due to close on January 22, 2024, is extended to January 31, 2024.

DATES: The comment period for the notice published December 22, 2023, at 88 FR 88637, is extended. To be assured consideration, comments must be received no later than 5 p.m. Eastern time January 31, 2024.

ADDRESSES: Written comments should be emailed to OGA.RSVP@hhs.gov with the subject line “Written Comment Re: Implications of Access and Benefit Sharing (ABS) Commitments/Regimes and Other Proposed Commitments in the WHO Pandemic Agreement” by January 31, 2024. Comments received after that date will be considered to the extent practicable.

FOR FURTHER INFORMATION CONTACT: Susan Kim, Office for Global Affairs, Office of the Secretary, HHS, Room (639H) Hubert H. Humphrey Building, 200 Independence Avenue SW, Washington, DC 20201.

SUPPLEMENTARY INFORMATION: Background: The original notice with full details is available at https://www.federalregister.gov/documents/2023/12/22/2023-28341/notice-and-request-for-comments-on-the-implications-of-access-and-benefit-sharing-abs.

In December 2021, WHO's Member States decided at a Special Session of the World Health Assembly to establish an intergovernmental negotiating body (INB), representing all regions of the world, to draft and negotiate a WHO convention, agreement, or other international instrument on pandemic prevention, preparedness, and response. More information about the INB process can be found here: https://inb.who.int/home/inb-process. The INB currently intends to submit its outcome to the Seventy-seventh World Health Assembly in May 2024.

The United States has expressed support for the development of an international instrument to protect the world from pandemic health threats now and in the future, and in a more rapid and equitable manner. Full details on the negotiating text and the outcomes sought by the United States are available at https://www.federalregister.gov/documents/2023/12/22/2023-28341/notice-and-request-for-comments-on-the-implications-of-access-and-benefit-sharing-abs.

Purpose: The U.S. Department of Health and Human Services (HHS) and the Department of State are charged with co-leading the U.S. delegation to the Intergovernmental Negotiating Body (INB) to draft and negotiate a WHO convention, agreement or other international instrument on pandemic prevention, preparedness, and response.

Specific topics and questions: Stakeholders are invited to provide comments on any and all issues raised by the negotiating text, including potential vehicles and means for implementation of commitments to which the U.S. may subscribe. To the extent commenters choose to comment on specific provisions of the negotiating text, it is helpful to reference any articles or sub-articles being addressed.

To provide additional time for interested parties to consider and comment on the negotiating text, the Department is extending the comment period for all comments through January 31, 2024.

Susan Kim,
Principal Deputy Assistant Secretary, Office of Global Affairs, Department of Health and Human Services.

[FR Doc. 2024-01275 Filed 1-19-24; 8:45 am]

BILLING CODE 4150-38-P